DEPARTMENT OF HEALTH AND HUMAN SERVICES

Substance Abuse and Mental Health Services Administration

Notice of Request for Applications for Strategic Prevention Framework State Incentive Grants (SPF SIG) (SP 04-002)

AGENCY: Substance Abuse and Mental Health Services Administration, HHS.

ACTION: Notice of Request for Applications for Strategic Prevention Framework State Incentive Grants (SPF SIG) (SP 04-002).

Authority: Section 516 of the Public Health Service Act.

SUMMARY: The Substance Abuse and Mental Health Services Administration (SAMHSA) Center for Substance Abuse Prevention (CSAP) announces the availability of grant funds for Strategic Prevention Framework State Incentive Grants (SPF SIGs). SPF SIG program is one of SAMHSA's Infrastructure Grant programs. SAMHSA's Infrastructure Grant programs support an array of activities to help grantees build a solid foundation for delivering and sustaining effective substance abuse and/or mental health services. The SPF SIGs, in particular, will provide funding to States to implement SAMHSA's Strategic Prevention Framework in order to:

• Prevent the onset and reduce the progression of substance abuse, including childhood and underage drinking,

• Reduce substance abuse-related problems in communities, and

• Build prevention capacity and infrastructure at the State and community levels.

The Strategic Prevention Framework is built on a community-based risk and protective factors approach to prevention and a series of guiding principles that can be operationalized at the Federal, State and community levels. Although the direct recipients of SPF SIG funds will be the States, SAMHSA envisions the SPF SIGs being implemented through partnerships between the States and communities. The SPF SIG grantees may retain 15 percent of the total grant award to provide leadership and coordination of the SPF project in the State, hire SPF SIG project staff, and implement the following State-level activities:

• Conduct a statewide needs assessment.

• Establish and maintain a State Epidemiological Workgroup

Note: SAMHSA expects that an average of $200,000 per year will be needed to support the needs assessment and State Epidemiological Workgroup activities.

• Develop a statewide Strategic Plan

• Conduct on-going monitoring and oversight of the SPF SIG project

• Conduct a State-level evaluation of the SPF SIG project

• Provide training and technical assistance to support the SPF SIG project

States must allocate a minimum of 85 percent of the total grant award to community-level organizations, or through sub State mechanisms to community-level organizations.

DATES: Applications are due on July 2, 2004.

FOR FURTHER INFORMATION CONTACT: For questions on program issues, contact: Mike Lowther, SAMHSA/CSAP, 5600 Fishers Lane, Rockwall II, Suite 930, Rockville, MD 20857, Phone: (301) 443-0369, E-Mail: mlowther@samhsa.gov, or Dave Robbins, SAMHSA/CSAP, 5600 Fishers Lane, Rockwall II, Suite 930, Rockville, MD 20857, Phone: (301) 443-0369, E-Mail: drobbins@samhsa.gov.

For questions on grants management issues, contact: Edna Frazier, Division of Grants Management, Substance Abuse and Mental Health Services Administration/OPS, 5600 Fishers Lane, Rockwall II, Suite 630, Rockville, MD 20857, Phone: (301) 443-443-6816, E-mail: efrazier@samhsa.gov.

SUPPLEMENTARY INFORMATION:

Catalogue of Federal Domestic Assistance (CFDA) No.: 93.243.

Key Dates
Application deadline | Application deadline: July 2, 2004
Intergovernmental Review (E.O. 12372) | Letters from State Single Point of Contact (SPOC) are due no later than 60 days after application deadline.

Table of Contents

I. Funding Opportunity Description

1. Introduction

2. Expectations

II. Award Information

1. Award Amount

2. Funding Mechanism

III. Eligibility Information

1. Eligible Applicants

2. Cost Sharing

3. Other

IV. Application and Submission Information

1. Address to Request Application Package

2. Content and Form of Application Submission

3. Submission Dates and Times

4. Intergovernmental Review (E.O. 12372) Requirements

5. Funding Restrictions/Limitations

6. Other Submission Requirements

V. Application Review Information

1. Evaluation Criteria

2. Review and Selection Process

VI. Award Administration Information

1. Award Notices

2. Administrative and National Policy Requirements

3. Reporting Requirements

VII. Agency Contacts

Appendix A: Checklist for Formatting Requirements and Screenout Criteria for SAMHSA Grant Applications

Appendix B: Glossary

Appendix C: National Registry of Effective Prevention Programs

Appendix D: Performance Measures for the SPF SIG Program

I. Funding Opportunity Description

1. Introduction

As authorized under Section 516 of the Public Health Service Act, the Substance Abuse and Mental Health Services Administration (SAMHSA) Center for Substance Abuse Prevention (CSAP) announces the availability of grant funds for Strategic Prevention Framework State Incentive Grants (SPF SIGs).

The SPF SIG program is one of SAMHSA's Infrastructure Grant programs. SAMHSA's Infrastructure Grant programs support an array of activities to help grantees build a solid foundation for delivering and sustaining effective substance abuse and/or mental health services. The SPF SIGs, in particular, will provide funding to States to implement SAMHSA's Strategic Prevention Framework in order to:

• prevent the onset and reduce the progression of substance abuse, including childhood and underage drinking,

• reduce substance abuse-related problems in communities, and

• build prevention capacity and infrastructure at the State and community levels.

The Strategic Prevention Framework is built on a community-based risk and protective factors approach to prevention and a series of guiding principles that can be operationalized at the Federal, State and community levels. Although the direct recipients of SPF SIG funds will be the States, SAMHSA envisions the SPF SIGs being implemented through partnerships between the States and communities.

2. Expectations

The Strategic Prevention Framework provides an effective prevention process, a direction and a common set of goals, expectations and accountabilities to be adopted and integrated at all levels. Through the SPF SIGs, States will be funded for up to five years to implement the Strategic Prevention Framework in partnership with community-level organizations in their States. The SPF SIG grantees may retain 15 percent of the total grant award to provide leadership and coordination of the SPF project in the State, hire SPF SIG project staff, and implement the following State-level activities:

• Conduct a statewide needs assessment

• Establish and maintain a State Epidemiological Workgroup

Note: Note: SAMHSA expects that an average of $200,000 per year will be needed to support the needs assessment and State Epidemiological Workgroup activities.

• Develop a statewide Strategic Plan

• Conduct on-going monitoring and oversight of the SPF SIG project

• Conduct a State-level evaluation of the SPF SIG project

• Provide training and technical assistance to support the SPF SIG project

States must allocate a minimum of 85 percent of the total grant award to community-level organizations, or through sub State mechanisms to community-level organizations.

2.1 Guiding Principles for the Strategic Prevention Framework

The Strategic Prevention Framework is grounded in the public health approach and based on six key principles. SPF SIG grantees are required to base their SPF SIG projects on these six principles:

1. Prevention is an ordered set of steps along a continuum to promote individual, family, and community health, prevent mental and behavioral disorders, support resilience and recovery, and prevent relapse. Prevention activities range from deterring diseases and behaviors that contribute to them, to delaying the onset of disease and mitigating the severity of symptoms, to reducing the related problems in communities. This concept is based on the Institute of Medicine model that recognizes the importance of a whole spectrum of interventions.

2. Prevention is prevention is prevention. That is, the common components of effective prevention for the individual, family or community within a public health model are the same—whether the focus is on preventing or reducing the effects of cancer, cardiovascular disease, diabetes, substance abuse or mental illness.

3. Common risk and protective factors exist for many substance abuse and mental health problems. Good prevention focuses on these common risk factors that can be altered. For example, family conflict, low school readiness, and poor social skills increase the risk for conduct disorders and depression, which in turn increase the risk for adolescent substance abuse, delinquency, and violence. Protective factors such as strong family bonds, social skills, opportunities for school success, and involvement in community activities can foster resilience and mitigate the influence of risk factors. Risk and protective factors exist in the individual, the family, the community, and the broader environment.

4. Resilience is built by developing assets in individuals, families, and communities through evidenced-based health promotion and prevention strategies. For example, youth who have relationships with caring adults, good schools, and safe communities develop optimism, good problem-solving skills, and other assets that enable them to rebound from adversity and go on with life with a sense of mastery, competence, and hope.

5. Systems of prevention services work better than service silos. Working together, researchers and communities have produced a number of highly effective prevention strategies and programs. Implementing these strategies within a broader system of services increases the likelihood of successful, sustained prevention activities. Collaborative partnerships enable communities to leverage scarce resources and make prevention everybody's business. National prevention efforts are more likely to succeed if partnerships with States, communities, and practitioners focus on building capacity to plan, implement, monitor, evaluate, and sustain effective prevention.

6. Baseline data, common assessment tools, and outcomes shared across service systems can promote accountability and effectiveness of prevention efforts. A Strategic Prevention Framework can facilitate Federal agencies, States, and communities to identify common needs and risk factors, adopt assessment tools to measure and track results, and target outcomes to be achieved. A data-driven strategic approach, adopted across service systems at the Federal, State, community, and service delivery levels, maximizes the chances for future success and achieving positive outcomes.

2.2 Strategic Prevention Framework Process

Moving SAMHSA's Strategic Prevention Framework from vision to practice is a strategic process that State and community stakeholders must undertake in partnership. Through the SPF SIG, States will provide the requisite leadership, technical support and monitoring to ensure that identified communities are successful in implementing the five steps of the framework listed below. These steps are required, and all targeted communities must implement all five steps. States and communities are encouraged to build on existing infrastructure/activity, where appropriate. States are expected to use the SPF framework to guide all prevention activity through-out the State, whether funded though the SPF SIG grant or through other sources.

(1) Profile population needs, resources, and readiness to address the problems and gaps in service delivery.

State Role: SPF SIG grantees must conduct a statewide needs assessment, through collection and analysis of epidemiological data, that includes the following:

• Assessment of the magnitude of substance abuse and related mental health disorders in the State,

• Assessment of risk and protective factors associated with substance abuse and related mental health disorders in the state,

• Assessment of community assets and resources,

• Identification of gaps in services and capacity,

• Assessment of readiness to act,

• Identification of priorities based on the epidemiological analyses, including the identification of target communities to implement the Strategic Prevention Framework, and

• Specification of baseline data against which progress and outcomes of the Strategic Prevention Framework can be measured.

In order to complete the statewide assessment, SPF SIG grantees will be required to form and manage a State Epidemiological Workgroup (or work with an existing Epidemiological Workgroup). If the State is already engaged in needs assessment efforts, it should use the Epidemiological Workgroup to enhance and supplement the current process and its findings. SAMHSA expects that these data collection efforts will support on-going monitoring and evaluation throughout the five-year project period, as described in Step 5, below.

Community Role: Communities must accurately assess their substance abuse-related problems using epidemiological data provided by the State as well as other local data. The epidemiological data must identify the magnitude of the problem to be addressed, where the problem is greatest, and risk and protective factors associated with the problem. Communities must also assess community assets and resources, gaps in services and capacity and readiness to act.

(2) Mobilize and/or build capacity to address needs.

State Role: The SPF SIG grantees must engage stakeholders across the States, as a complement to parallel engagement activities occurring within the target communities that are selected for implementation activities.

Community Role: Engagement of key stakeholders at the State and community levels is critical to plan and implement successful prevention activities that will be sustained over time. Key tasks may include, but are not limited to, convening leaders and stakeholders; building coalitions; training community stakeholders, coalitions, and service providers; organizing agency networks; leveraging resources; and engaging stakeholders to help sustain the activities.

(3) Develop a Comprehensive Strategic Plan.

State Role: Using data from the statewide needs assessment, SPF SIG grantees must develop a State strategic plan that:

—Identifies the priorities that will be targeted in the State's Strategic Prevention Framework,

—Articulates a vision for prevention activities to address critical needs,

—Describes necessary infrastructure development and/or evidence-based policies, programs and practices (or a process for selection) to be implemented within the broader service system and specifies timelines for implementation,

—Identifies/coordinates/allocates resources and sources of funding for the plan,

—Identifies appropriate funding mechanism(s) to allocate resources to targeted communities,

—Identifies any training required,

—Includes key policies and relationships among stakeholders,

—Involves public and private service systems in creating a seamless continuum of planning and services,

—Includes plans for sustaining the infrastructure and services that are implemented,

—Identifies key milestones and outcomes against which to gauge performance, thereby allowing for system improvement and accountability of all parties involved, and

—Includes plans for making adjustments, based on on-going needs assessment activities.

Community Role: Communities must develop a strategic plan that articulates not only a vision for the prevention activities, but also strategies for organizing and implementing prevention efforts. The strategic plan must be based on documented needs, build on identified resources/strengths, set measurable objectives and include the performance measures and baseline data against which progress will be monitored. Plans must be adjusted as the result of ongoing needs assessment and monitoring activities. The issue of sustainability should be a constant throughout each step of planning and implementation and should lead to the creation of a long-term strategy to sustain policies, programs and practices.

The strategic plans must be data-driven and focused on addressing the most critical needs in the State. The State Strategic Plan must be approved by the SAMHSA/CSAP Government Project Officer before implementation activities can begin.

(4) Implement evidence-based prevention programs and infrastructure development activities.

State Role: Once the State's Strategic Plan is approved by the SAMHSA/CSAP Government Project Officer, implementation may begin. SPF SIG grantees must provide the infrastructure and other necessary support to local stakeholders in selecting and implementing policies, programs, and practices proven to be effective in research settings and communities. States must ensure that community implementers make culturally competent adaptations without sacrificing the core elements of the program.

Community Role: Similarly, local stakeholders will use the findings of their needs assessments to guide selection and implementation of policies, programs and practices proven to be effective in research settings and communities. Community implementers must ensure that culturally competent adaptations are made without sacrificing the core elements of the program. SAMHSA especially encourages the selection and adaptation of programs contained in the National Registry of Effective Programs (NREP), though this is not a requirement of the SPF SIG. (See Appendix C for information about NREP.)

(5) Monitor process, evaluate effectiveness, sustain effective programs/activities, and improve or replace those that fail.

State Role: SPF SIG grantees will be accountable for the results of the SPF SIG grant projects. SPF SIG grantees are, therefore, expected to play a critical role in providing on-going monitoring and evaluation of all SPF SIG activities, as well as training and technical assistance regarding evaluation and performance measurement to local communities. Through these efforts, the SPF SIG grantees will assess program effectiveness, ensure service delivery quality, identify successes, encourage needed improvement, and promote sustainability of effective policies, programs, and practices. The SPF SIG grantees will be expected to provide performance data to SAMHSA on a regular basis, as described in Section I-2.5, Data and Performance Measurement, of this announcement. SPF SIG grantees must be prepared to adjust their implementation plans based on the results of monitoring/evaluation activities.

Community Role: Ongoing monitoring and evaluation are essential to determine if the outcomes desired are achieved and to assess program effectiveness and service delivery quality. Communities must provide performance data to the SPF SIG States on a regular basis, so that the States can monitor, evaluate, sustain and improve the Strategic Prevention Framework activities in the State.

Although the first three steps of the Strategic Prevention Framework will continue at some level throughout the course of the project, SAMHSA expects that the SPF SIG grantees will be ready to begin implementing steps 4 and 5 by the end of the first year of the project.

2.3 Inclusion of Underage Drinking

Recent studies—including a major undertaking by the National Academy of Science—indicates a severe and persistent problem with the use of alcohol by children and youth under the age of 21. The Department of Health and Human Services, through SAMHSA/CSAP, is committed to bringing down the rates of underage drinking and is working toward a target of $30 million in FY 2004 funding for communities to address this problem. The SPF SIG grant offers an excellent vehicle for supporting the goals of this underage drinking initiative. State applicants must therefore include the prevention of underage alcohol consumption as part of their SPF SIG project and provide a comprehensive strategy that addresses this problem, along with other SPF SIG priorities. (This will mean addressing underage drinking and other substance abuse.) Underage drinking must be included in all five steps of the Strategic Prevention Framework implemented by each SPF SIG grantee.

2.4 Strategic Prevention Framework Advisory Council

In implementing the SPF SIG, States are required to form a Strategic Prevention Framework Advisory Council (SPF Advisory Council) that includes a representative(s) from each of the following:

(1) The Office of the Governor;

(2) A core group of drug and alcohol-related agencies identified by the State (including but not limited to public health, education, criminal justice, behavioral/mental health);

(3) A Demand Reduction Coordinator from the Drug Enforcement Administration who has responsibility for the State;

(4) The State agency identified by the applicant as the lead agency on underage drinking. (SAMHSA/CSAP encourages Governors to designate a lead agency for preventing underage drinking if one does not currently exist); and

(5) SAMHSA/CSAP.

Representatives from other State, community and non-profit organizations that work in substance abuse prevention and mental health promotion/early intervention are also encouraged to be part of the SPF Advisory Council.

The Chair of the SPF Advisory Council is to be appointed by the Governor.

The SPF Advisory Council should provide ongoing advice and guidance to the SPF SIG project and is encouraged to create workgroups to monitor progress and accomplish each of the required steps of the Strategic Prevention Framework.

2.5 Data and Performance Measurement

The Government Performance and Results Act of 1993 (Pub. L. 103-62, or “GPRA”) requires all Federal agencies to:

• develop strategic plans that specify what they will accomplish over a 3- to 5-year period;

• set performance targets annually related to their strategic plan; and

• report annually on the degree to which the previous year's targets were met.

The law further requires agencies to link their performance to their budgets. Agencies are expected to evaluate their programs regularly and to use results of these evaluations to explain their successes and failures.

To meet these requirements, SAMHSA must collect performance data (i.e., “GPRA data”) from grantees. Grantees are required to report these performance data to SAMHSA on a timely basis so that results are available to support budgetary decisions.

In collaboration with States and other stakeholders, SAMHSA has reviewed its discretionary and block grant programs, examining their ability to capture and assess performance data on treatment and prevention outcomes. The result has been the identification of seven key National Outcome domains.

• Four domains apply to both prevention and recovery and will be addressed by the SPF SIG: (1) Abstinence from illicit drug use and alcohol abuse, (2) increased employment/return to school, (3) prevented or decreased criminal justice involvement, and (4) increased stabilization of family and living conditions.

• Two of the three remaining domains—increased access to services and increased social supports and connectedness—relate directly to the prevention services process itself and will be addressed by the SPF SIG.

• The seventh domain (increased retention in treatment) is not relevant to prevention and will not be addressed by the SPF.

The SPF SIG grantees also will be required to collect and report data on two additional domains—Cost Effectiveness and Use of Evidence-Based Practices—as a result of the Office of Management and Budget (OMB) Program Assessment and Review Tool (PART) review of SAMHSA's block grants.

SPF SIG grantees must include performance measures in the National Outcome domains in the needs assessments and on-going monitoring and evaluation activities that will be conducted through the SPF SIGs. By using these same outcome domains and their measures over time to assess progress, States and SAMHSA can foster continuous program and policy improvement.

The performance measures in each of the domains relevant to the Strategic Prevention Framework are listed below and specific data elements to be used for each of the performance measures are provided in Appendix D of this announcement. SPF SIG States will be expected to collect and aggregate these data from the target communities for the SPF SIG. Comparable statewide data will be collected through the prevention portion of the States Substance Abuse Prevention and Treatment Block Grant (SAPTBG) allotment.

Applicants for the SPF SIG should describe their current ability to collect and report data on these measures in their applications, but should understand that the specific requirements for doing so may change. In particular, data elements for some of the performance measures are currently under development. Applicants for the SPF SIG must propose an approach to collecting and reporting data on the developmental performance measures in their applications. A meeting of the SPF SIG grantees and State officials working on the prevention portion of the SAPTBG will be convened 3 to 6 months after award to finalize an approach to collecting and reporting these measures. Ultimately, OMB approval will be required. SAMHSA/CSAP will provide the final set of measures, data collection tools and approved methodology to the SPF SIG grantees after OMB approval has been obtained.

Desired outcome/domain | Performance measure
Abstinence from Drug | 30-day substance use (non-use/reduction in use).
Use/Alcohol Abuse | Availability of alcohol, tobacco and other drugs.
| Perception of drug use as harmful.
| Attitude toward use (Perception of drug use as wrong).
Increased/Retained Employment or Return to/Stay in School | School attendance, ATOD-related suspensions/expulsions, Drug-related workplace injuries.
Decreased Criminal Justice Involvement | Drug-related crime.
Increased Stability in Family and Living Conditions | Parent participation in prevention activities.
Increased Access to Services (Service Capacity) | Number of persons served by age, gender, race, and ethnicity.
Increased Social Supports/Social Connectedness | Under development.

OMB required outcome/domain | Performance measure
Cost Effectiveness | Increase services provided within cost bands.
Use of Evidence-Based Practices | Total number of evidence-based programs and strategies funded by SPF SIG.

In addition to the required performance data, SPF SIG States will be required to identify and report the amount of funding focused on underage drinking for each year of the project. Finally, grantees may choose to collect additional data to monitor progress in addressing state-specific needs identified in the statewide needs assessment. Applicants should specify and justify any additional measures they plan to collect in their applications.

2.6 Evaluation

Grantees must conduct on-going monitoring and evaluation of their projects to determine if the outcomes desired are achieved and to assess program effectiveness and service delivery quality, encourage needed improvement, and promote sustainability of effective programs. Grantees must be prepared to adjust their implementation plans based on the results of their monitoring/evaluation activities. The evaluation must include the required performance measures described above and must enable the State to track progress in achieving SPF SIG Project Goals. The evaluation must include both process and outcome components. Although control groups are not required, the State must identify potential sources of comparison data at the state and community level. The evaluation plan must be considered when preparing the project budget.

The process evaluation must address the implementation of the Strategic Prevention Framework:

• How closely did implementation match the plan?

• What types of deviation from the plan occurred?

• What led to the deviations?

• What impact did the deviations have on the intervention and evaluation?

The outcome evaluation must provide data and measurement to determine changes in the seven National Outcome domains described above. To the extent possible, the outcome evaluation should investigate the relationship between changes in the domains and the implementation of the Strategic Prevention Framework:

• What was the effect of the Strategic Prevention Framework project on service capacity and other system outcomes?

• Did the Strategic Prevention Framework project achieve the intended Project Goals?

• What program/contextual factors were associated with outcomes?

• What individual factors were associated with outcomes?

• How durable were the effects?

Following award, SPF SIG States will be required to submit revisions to their data collection and evaluation plans based on the results of needs assessment activities, the on-going work of the Epidemiological Workgroup, and development of the SPF SIG strategic plan.

In addition to conducting a project-specific evaluation, SPF SIG grantees must participate in a SPF SIG cross-site evaluation to be conducted by CSAP and the National Institute on Drug Abuse (NIDA). This cross-site evaluation will be designed to measure the impact of the SPF SIG program as a whole in terms of establishing and sustaining an infrastructure at the State and community-levels to allow data-based decision-making and improving client outcomes as well as environmental factors that affect substance abuse. SPF SIG grantees must explicitly state their willingness to participate in this cross-site evaluation in their applications, including their willingness to provide required forms, data and reports related to the cross-site evaluation.

2.7 Grantee Meetings

Grantees must plan to send a minimum of two people (including the Project Director) to at least one joint grantee meeting in each year of the grant and must include funding for this travel in the grant budget. At these meetings, grantees will present the results of their projects and Federal staff will provide technical assistance. Each meeting will be up to 3 days. These meetings will usually be held in the Washington, DC, area, and attendance is mandatory.

2.8 Technical Assistance From SAMHSA

Due to the unique nature of this grant program, SAMHSA recognizes that applicants may wish to entertain an array of program and administrative options. To respond, SAMHSA will make available both pre-application and post-award technical assistance. Examples of topics for which technical assistance may be provided include, but are not limited to:

• Conducting needs assessments,

• Forming and working with Epidemiological Workgroups, including establishment of initial data bases to support collection and analysis of epidemiological data,

• Identification and selection of evidence-based practices,

• Fiscal/cost accounting mechanisms that can track program expenditures,

• Management of information systems to track performance and outcomes,

• Development of quality improvement activities, including technical assistance and training to support implementation of evidence-based practices, and

• Outreach to entities unknown to the State.

II. Award Information

1. Award Amount

It is expected that approximately $45 million will be available to fund up to 20 awards in Fiscal Year (FY) 2004. Annual awards are expected to be $3.0 million or less per year in total costs (direct and indirect). Applicants may request a project period of up to five years.

Based on the President's budget request for FY 2005, SAMHSA expects to have additional funds available for a small number of new awards in 2005. The amount available for new awards in FY 2005 will be determined by the final appropriation. Because the number of new awards to be made is expected to be small, SAMHSA does not currently plan to republish the SPF SIG announcement for 2005. Instead, SAMHSA plans to make FY 2005 awards to applicants who submit applications under this grant announcement but do not receive funding in FY 2004. All States are strongly encouraged to apply for an SPF SIG grant in FY 2004.

Proposed budgets may be less than, but may not exceed, $3 million in any year of the proposed project. Annual continuation awards will depend on the availability of funds, grantee progress in meeting project goals and objectives, and timely submission of required data and reports.

Because the SPF SIG is intended to be implemented through a partnership between the State and community-level organizations, and because much of the Strategic Prevention Framework involves activity that must be implemented at the community level, State applicants for the SPF SIG may retain up to 15 percent of the total grant award for activities to be implemented at the State level. A minimum of 85 percent of the total grant award must be allocated to community-level organizations for activities to be implemented at the community level. Both State and community-level recipients of funds are expected to be involved in all five required steps of the Strategic Prevention Framework.

2. Funding Mechanism

Awards will be made as Cooperative Agreements.

Role of the State Awardee

The SPF SIG State awardee must comply with the terms of the SPF SIG Cooperative Agreement, including implementation of all required SPF SIG activities described in Section I-2, Expectations, in this grant announcement. The SPF SIG awardee must agree to provide SAMHSA with all required performance data, collaborate with SAMHSA/CSAP staff in all aspects of the SPF SIG Cooperative Agreement, and participate in the SIG Cross Site Evaluation (including submission of all required forms, data and reports).

Role of Federal Staff

The Government Project Officer (GPO) will serve as an active member of the State's SPF Advisory Council. Through participation on the Advisory Council, the GPO will provide guidance and technical assistance to help awardees achieve SPF SIG goals. The GPO also will participate on policy, steering, advisory or other workgroups; assure that SPF SIG projects are responsive to SAMHSA's mission and implement the SAMHSA Strategic Prevention Framework; monitor and review progress of SPF SIG projects; monitor development and collection of process and outcome data from SPF SIG grantees; ensure compliance with Government Performance and Results Act (GPRA) and Core Measures data requirements; ensure the SPF SIG's collaboration with the SPF SIG State Epidemiological Workgroup; and review and approve the State's Strategic Plan and relevant subrecipient funding mechanisms.

III. Eligibility Information

1. Eligible Applicants

This program is intended to help States enhance the prevention infrastructure and service delivery system throughout the State. Applicants for the SPG SIG must have the ability to leverage and coordinate all prevention-related sources of funding and other resources in order to achieve the goals of the Strategic Prevention Framework. Therefore, eligibility for the SPF SIG is limited to the immediate office of the Governor in those States and Territories that currently receive the SAPT Block Grant. Governors are strongly encouraged to designate administration and oversight of the SPF SIG to the agency in the State that manages the 20 percent prevention set-aside of the SAPT Block Grant.

2. Cost Sharing

Cost sharing is not required in this program, and applications will not be screened out on the basis of cost sharing. However, you may include cash or in-kind contributions in your proposal as evidence of commitment to the proposed project. Reviewers may consider this information in evaluating the quality of the application.

3. Other

Applications must comply with the following requirements, or they will be screened out and will not be reviewed: use of the PHS 5161-1 application; application submission requirements in Section IV-3 of this document; and formatting requirements provided in Section IV-2.3 of this document.

IV. Application and Submission Information

(To ensure that you have met all submission requirements, a checklist is provided for your use in Appendix A of this document.)

1. Address to Request Application Package

You may request a complete application kit by calling the National Clearinghouse for Alcohol and Drug Information (NCADI) at 1-800-729-6686.

You also may download the required documents from the SAMHSA Web site at www.samhsa.gov. Click on “grant opportunities.”

Additional materials available on this Web site include:

• A technical assistance manual for potential applicants;

• Standard terms and conditions for SAMHSA grants;

• Guidelines and policies that relate to SAMHSA grants (e.g., guidelines on cultural competence, consumer and family participation, and evaluation); and

• Enhanced instructions for completing the PHS 5161-1 application.

2. Content and Form of Application Submission

2.1 Required Documents

SAMHSA application kits include the following documents:

• PHS 5161-1 (revised July 2000)—Includes the face page, budget forms, assurances, certification, and checklist. You must use the PHS 5161-1. Applications that are not submitted on the PHS 5161-1 will be screened out and will not be reviewed.

• Request for Application (RFA)—Provides specific information about the availability of funds along with instructions for completing the grant application. This document is the RFA. The RFA will be available on the SAMHSA Web site (http://www.samhsa.gov) and on the Federal grants Web site (http://www.grants.gov). The RFA also will be published in the Federal Register.

You must use all of the above documents in completing your application.

2.2 Required Application Components

To ensure equitable treatment of all applications, applications must be complete. In order for your application to be complete, it must include the required ten application components (Face Page, Abstract, Table of Contents, Budget Form, Project Narrative and Supporting Documentation, Appendices, Assurances, Certifications, Disclosure of Lobbying Activities, and Checklist).

• Face Page—Use Standard Form (SF) 424, which is part of the PHS 5161-1. [Note: Beginning October 1, 2003, applicants will need to provide a Dun and Bradstreet (DUNS) number to apply for a grant or cooperative agreement from the Federal Government. SAMHSA applicants will be required to provide their DUNS number on the face page of the application. Obtaining a DUNS number is easy and there is no charge. To obtain a DUNS number, access the Dun and Bradstreet Web site at http://www.dunandbradstreet.com or call 1-866-705-5711. To expedite the process, let Dun and Bradstreet know that you are a public/private nonprofit organization getting ready to submit a Federal grant application.]

• Abstract—Your total abstract should not be longer than 35 lines. In the first five lines or less of your abstract, write a summary of your project that can be used, if your project is funded, in publications, reporting to Congress, or press releases.

• Table of Contents—Include page numbers for each of the major sections of your application and for each appendix.

• Budget Form—Use SF 424A, which is part of the 5161-1. Fill out Sections B, C, and E of the SF 424A.

• Project Narrative and Supporting Documentation—The Project Narrative describes your project. It consists of Sections A through D. These sections in total may not be longer than 25 pages. More detailed instructions for completing each section of the Project Narrative are provided in “Section V—Application Review Information” of this document.

The Supporting Documentation provides additional information necessary for the review of your application. This supporting documentation should be provided immediately following your Project Narrative in Sections E through H. There are no page limits for these sections, except for Section G, Biographical Sketches/Job Descriptions.

• Section E—Literature Citations. This section must contain complete citations, including titles and all authors, for any literature you cite in your application.

• Section F—Budget Justification, Existing Resources, Other Support. You must provide a narrative justification of the items included in your proposed budget, as well as a description of existing resources and other support you expect to receive for the proposed project. Be sure to show that no more than 20% of the total grant award will be used for data collection and evaluation.

• Section G—Biographical Sketches and Job Descriptions.

—Include a biographical sketch for the Project Director and other key positions. Each sketch should be 2 pages or less. If the person has not been hired, include a letter of commitment from the individual with a current biographical sketch.

—Include job descriptions for key personnel. Job descriptions should be no longer than 1 page each.

—Sample sketches and job descriptions are listed on page 22, Item 6 in the Program Narrative section of the PHS 5161-1.

• Section H—Confidentiality and SAMHSA Participant Protection/Human Subjects. Section IV-2.4 of this document describes requirements for the protection of the confidentiality, rights and safety of participants in SAMHSA-funded activities. This section also includes guidelines for completing this part of your application.

• Appendices 1 through 3—Use only the appendices listed below. Do not use more than 30 pages for Appendices 1 and 3. There are no page limitations for Appendix 2. Do not use appendices to extend or replace any of the sections of the Project Narrative. Reviewers will not consider them if you do.

—Appendix 1: Letters of Support

—Appendix 2: Data Collection Instruments/Interview Protocols

—Appendix 3: Sample Consent Forms

• Assurances—Non-Construction Programs. Use Standard Form 424B found in PHS 5161-1. You are also required to complete the Assurance of Compliance with SAMHSA Charitable Choice Statutes and Regulations Form SMA 170. This form will be posted on SAMHSA's Web site with the RFA and provided in the application kits available at SAMHSA's clearinghouse (NCADI).

• Certifications—Use the “Certifications” forms found in PHS 5161-1.

• Disclosure of Lobbying Activities—Use Standard Form LLL found in the PHS 5161-1. Federal law prohibits the use of appropriated funds for publicity or propaganda purposes, or for the preparation, distribution, or use of the information designed to support or defeat legislation pending before the Congress or State legislatures. This includes “grass roots” lobbying, which consists of appeals to members of the public suggesting that they contact their elected representatives to indicate their support for or opposition to pending legislation or to urge those representatives to vote in a particular way.

• Checklist—Use the Checklist found in PHS 5161-1. The Checklist ensures that you have obtained the proper signatures, assurances and certifications and is the last page of your application.

2.3 Application Formatting Requirements

Applicants also must comply with the following basic application requirements. Applications that do not comply with these requirements will be screened out and will not be reviewed.

• Information provided must be sufficient for review.

• Text must be legible.

—Type size in the Project Narrative cannot exceed an average of 15 characters per inch, as measured on the physical page. (Type size in charts, tables, graphs, and footnotes will not be considered in determining compliance.)

—Text in the Project Narrative cannot exceed 6 lines per vertical inch.

• Paper must be white paper and 8.5 inches by 11.0 inches in size.

• To ensure equity among applications, the amount of space allowed for the Project Narrative cannot be exceeded.

—Applications would meet this requirement by using all margins (left, right, top, bottom) of at least one inch each, and adhering to the 25-page limit for the Project Narrative.

—Should an application not conform to these margin or page limits, SAMHSA will use the following method to determine compliance: The total area of the Project Narrative (excluding margins, but including charts, tables, graphs and footnotes) cannot exceed 58.5 square inches multiplied by 25. This number represents the full page less margins, multiplied by the total number of allowed pages.

—Space will be measured on the physical page. Space left blank within the Project Narrative (excluding margins) is considered part of the Project Narrative, in determining compliance.

• The 30-page limit for Appendices 1 and 3.

To facilitate review of your application, follow these additional guidelines. Failure to adhere to the following guidelines will not, in itself, result in your application being screened out and returned without review. However, following these guidelines will help reviewers to consider your application.

• Pages should be typed single-spaced with one column per page.

• Pages should not have printing on both sides.

• Please use black ink and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in Section IV-6.1 of this document. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

2.4 SAMHSA Confidentiality and Participant Protection Requirements and Protection of Human Subjects Regulations

Applicants must describe procedures relating to Confidentiality, Participant Protection and the Protection of Human Subjects Regulations in Section H of the application, using the guidelines provided below. Problems with confidentiality, participant protection, and protection of human subjects identified during peer review of the application may result in the delay of funding.

Confidentiality and Participant Protection: All applicants must describe how they will address the requirements for each of the following elements relating to confidentiality and participant protection.

1. Protect Clients and Staff From Potential Risks

• Identify and describe any foreseeable physical, medical, psychological, social, and legal risks or potential adverse effects as a result of the project itself or any data collection activity.

• Describe the procedures you will follow to minimize or protect participants against potential risks, including risks to confidentiality.

• Identify plans to provide guidance and assistance in the event there are adverse effects to participants.

• Where appropriate, describe alternative treatments and procedures that may be beneficial to the participants. If you choose not to use these other beneficial treatments, provide the reasons for not using them.

2. Fair Selection of Participants

• Describe the target population(s) for the proposed project. Include age, gender, and racial/ethnic background and note if the population includes homeless youth, foster children, children of substance abusers, pregnant women, or other targeted groups.

• Explain the reasons for including groups of pregnant women, children, people with mental disabilities, people in institutions, prisoners, and individuals who are likely to be particularly vulnerable to HIV/AIDS.

• Explain the reasons for including or excluding participants.

• Explain how you will recruit and select participants. Identify who will select participants.

3. Absence of Coercion

• Explain if participation in the project is voluntary or required. Identify possible reasons why participation is required, for example, court orders requiring people to participate in a program.

• If you plan to compensate participants, state how participants will be awarded incentives (e.g., money, gifts, etc.).

• State how volunteer participants will be told that they may receive services intervention even if they do not participate in or complete the data collection component of the project.

4. Data Collection

• Identify from whom you will collect data (e.g., from participants themselves, family members, teachers, others). Describe the data collection procedures and specify the sources for obtaining data (e.g., school records, interviews, psychological assessments, questionnaires, observation, or other sources). Where data are to be collected through observational techniques, questionnaires, interviews, or other direct means, describe the data collection setting.

• Identify what type of specimens (e.g., urine, blood) will be used, if any. State if the material will be used just for evaluation or if other use(s) will be made. Also, if needed, describe how the material will be monitored to ensure the safety of participants.

• Provide in Appendix 2, “Data Collection Instruments/Interview Protocols,” copies of all available data collection instruments and interview protocols that you plan to use.

5. Privacy and Confidentiality

• Explain how you will ensure privacy and confidentiality. Include who will collect data and how it will be collected.

• Describe:

—How you will use data collection instruments.

—Where data will be stored.

—Who will or will not have access to information.

—How the identity of participants will be kept private, for example, through the use of a coding system on data records, limiting access to records, or storing identifiers separately from data.

Note: If applicable, grantees must agree to maintain the confidentiality of alcohol and drug abuse client records according to the provisions of Title 42 of the Code of Federal Regulations, Part II.

6. Adequate Consent Procedures

• List what information will be given to people who participate in the project. Include the type and purpose of their participation. Identify the data that will be collected, how the data will be used and how you will keep the data private.

• State:

—Whether or not their participation is voluntary.

—Their right to leave the project at any time without problems.

—Possible risks from participation in the project.

—Plans to protect clients from these risks.

• Explain how you will get consent for youth, the elderly, people with limited reading skills, and people who do not use English as their first language.

Note: If the project poses potential physical, medical, psychological, legal, social or other risks, you must obtain written informed consent.

• Indicate if you will obtain informed consent from participants or assent from minors along with consent from their parents or legal guardians. Describe how the consent will be documented. For example: Will you read the consent forms? Will you ask prospective participants questions to be sure they understand the forms? Will you give them copies of what they sign?

• Include, as appropriate, sample consent forms that provide for: (1) Informed consent for participation in service intervention; (2) informed consent for participation in the data collection component of the project; and (3) informed consent for the exchange (releasing or requesting) of confidential information. The sample forms must be included in Appendix 3, “Sample Consent Forms”, of your application. If needed, give English translations.

Note: Never imply that the participant waives or appears to waive any legal rights, may not end involvement with the project, or releases your project or its agents from liability for negligence.

• Describe if separate consents will be obtained for different stages or parts of the project. For example, will they be needed for both participant protection in treatment intervention and for the collection and use of data?

• Additionally, if other consents (e.g., consents to release information to others or gather information from others) will be used in your project, provide a description of the consents. Will individuals who do not consent to having individually identifiable data collected for evaluation purposes be allowed to participate in the project?

7. Risk/Benefit Discussion

Discuss why the risks are reasonable compared to expected benefits and importance of the knowledge from the project.

Protection of Human Subjects Regulations

Applicants may have to comply with the Protection of Human Subjects Regulations (45 CFR part 46), depending on the evaluation design proposed in the application.

Applicants whose projects must comply with the Protection of Human Subjects Regulations must describe the process for obtaining Institutional Review Board (IRB) approval fully in their applications. While IRB approval is not required at the time of grant award, these applicants will be required, as a condition of award, to provide the documentation that an Assurance of Compliance is on file with the Office for Human Research Protections (OHRP) and that IRB approval has been received prior to enrolling any clients in the proposed project.

Additional information about Protection of Human Subjects Regulations can be obtained on the web at http://ohrp.osophs.dhhs.gov. You may also contact OHRP by e-mail (ohrp@osophs.dhhs.gov) or by phone (301-496-7005).

3. Submission Dates and Times

Applications are due by close of business on July 2, 2004. Your application must be received by the application deadline. Applications sent through postal mail and received after this date must have a proof-of-mailing date from the carrier dated at least 1 week prior to the due date. Private metered postmarks are not acceptable as proof of timely mailing.

You will be notified by postal mail that your application has been received.

Applications not received by the application deadline or not postmarked by a week prior to the application deadline will be screened out and will not be reviewed.

4. Intergovernmental Review (E.O. 12372) Requirements

Executive Order 12372, as implemented through Department of Health and Human Services (DHHS) regulation at 45 CFR Part 100, sets up a system for State and local review of applications for Federal financial assistance. A current listing of State Single Points of Contact (SPOCs) is included in the application kit and can be downloaded from the Office of Management and Budget (OMB) Web site at http://www.whitehouse.gov/omb/grants/spoc.html.

• Check the list to determine whether your State participates in this program.

• If your State participates, contact your SPOC as early as possible to alert him/her to the prospective application(s) and to receive any necessary instructions on the State's review process.

• For proposed projects serving more than one State, you are advised to contact the SPOC of each affiliated State.

• The SPOC should send any State review process recommendations to the following address within 60 days of the application deadline: Substance Abuse and Mental Health Services Administration, Office of Program Services, Review Branch, 5600 Fishers Lane, Room 17-89, Rockville, Maryland, 20857, ATTN: SPOC—Funding Announcement No. SP 04-002.

5. Funding Limitations/Restrictions

Cost principles describing allowable and unallowable expenditures for Federal grantees, including SAMHSA grantees, are provided in the following documents:

• Institutions of Higher Education: OMB Circular A-21

• State and Local Governments: OMB Circular A-87

• Nonprofit Organizations: OMB Circular A-122

• Appendix E Hospitals: 45 CFR Part 74

In addition, SAMHSA's SPF SIG recipients must comply with the following funding restrictions:

• Grant funds must be used for purposes supported by the program.

• The SPF SIG grantees may retain up to 15% of the total grant award for implementation of State-level activities, while a minimum of 85% of the total grant award must be allocated to community-level organizations to support activities taking place at the community level.

• Grant funds may not be used to pay for the purchase or construction of any building or structure to house any part of the grant project. Applications may request up to $75,000 for renovations and alterations of existing facilities.

6. Other Submission Requirements

6.1 Where To Send Applications

Send applications to the following address: Substance Abuse and Mental Health Services Administration, Office of Program Services, Review Branch, 5600 Fishers Lane, Room 17-89, Rockville, Maryland, 20857.

Be sure to include “SPF SIG/SP 04-002” in item number 10 on the face page of the application. If you require a phone number for delivery, you may use (301) 443-4266.

6.2 How To Send Applications

Mail an original application and 2 copies (including appendices) to the mailing address provided above. The original and copies must not be bound. Do not use staples, paper clips, or fasteners. Nothing should be attached, stapled, folded, or pasted.

You must use a recognized commercial or governmental carrier. Hand carried applications will not be accepted. Faxed or e-mailed applications will not be accepted.

V. Application Review Information

1. Evaluation Criteria

Your application will be reviewed and scored according to the quality of your response to the requirements listed below for developing the Project Narrative (Sections A-D). These sections describe what you intend to do with your project.

• In developing the Project Narrative section of your application, use these instructions, which have been tailored to this program. These are to be used instead of the “Program Narrative” instructions found in the PHS 5161-1.

• You must use the four sections/headings listed below in developing your Project Narrative. Be sure to place the required information in the correct section, or it will not be considered. Your application will be scored according to how well you address the requirements for each section.

• Reviewers will be looking for evidence of cultural competence in each section of the Project Narrative. Points will be assigned based on how well you address the cultural competence aspects of the evaluation criteria. SAMHSA's guidelines for cultural competence can be found on the SAMHSA Web site at http://www.samhsa.gov. Click on “Grant Opportunities.”

• The Supporting Documentation you provide in Sections E-H and Appendices 1-5 will be considered by reviewers in assessing your response, along with the material in the Project Narrative.

• The number of points after each heading below is the maximum number of points a review committee may assign to that section of your Project Narrative. Bullet statements in each section do not have points assigned to them. They are provided to invite the attention of applicants and reviewers to important areas within each section.

Section A: Statement of Need (10 points)

• Document the need to implement the Strategic Prevention Framework in the State. Include information about the prevalence of substance abuse and related risk and protective factors within the State. Documentation of need may come from local data or trend analyses, State data (e.g., from State Needs Assessments), and/or national data (e.g., from SAMHSA's National Survey on Drug Use and Health or from National Center for Health Statistics/Centers for Disease Control reports). For data sources that are not well known, provide sufficient information on how the data were collected so reviewers can assess the reliability and validity of the data.

• Describe the need for an enhanced infrastructure to increase the capacity to implement, sustain, and improve effective substance abuse prevention services in the State. Describe what is currently known about service gaps, barriers, and other problems related to the need to implement the Strategic Prevention Framework.

• Describe how the Strategic Prevention Framework State Incentive Grant (SPF SIG) will help the State and communities to address substance abuse problems in the State. Include how the SPF will improve the State's process for collecting, analyzing and utilizing data to plan, implement and evaluate substance abuse prevention efforts.

• Describe key stakeholders and resources within the State that can help implement the Strategic Prevention Framework.

Section B: Proposed Approach (35 points)

• Clearly state the purpose of the proposed project, including specific goals and objectives for your State. Describe how implementation of the Strategic Prevention Framework will lead to achievement of those goals and objectives, and how this will increase system capacity to support effective substance abuse prevention.

• Describe the approach that will be used to implement the Strategic Prevention Framework. In this description, you should:

—Document that the project will build upon the six principles of the Strategic Prevention Framework;

—Describe how you will implement the five required steps of the Strategic Prevention Framework at the State level;

—Describe how you will implement a complementary/parallel 5-step process within the target communities that are selected for implementation activities;

—Describe roles that you expect states and communities to play in each of the five steps; and

—Describe how childhood and underage drinking will be included as an emphasis in each of the target communities selected for funding.

• Describe your plans to develop or expand Epidemiological Workgroups, and describe the State's plan to utilize the information generated by the Epidemiological Workgroups to drive funding decisions.

• Describe your plans for forming and mobilizing a new SPF Advisory Council or enhancing an existing advisory body to meet the requirements for the SPF Advisory Council described in Section I-2.4, SPF Advisory Council. Include a description of the SPF Advisory Council's membership, roles and functions, and frequency of meetings.

• Describe plans to implement culturally appropriate policies, programs and practices.

• Describe how you will encourage communities to use evidence-based programs, practices and policies.

• Describe the community partners and any other organizations that will participate in the project and their roles and responsibilities. Demonstrate their commitment to the project. Include letters of commitment/coordination/support from these community organizations in Appendix 1 of the application. Identify any cash or in-kind contributions that will be made to the project.

• Describe how members of the target population were involved in the preparation of the application, and how they will be involved in the planning, implementation, and evaluation of the project.

• Describe the potential barriers to successful conduct of the proposed project and how you will overcome them.

• Provide a plan to secure resources to sustain the proposed infrastructure enhancements when Federal funding ends.

Section C: Staff and Management Capacity, and Relevant Experience (25 points)

• Provide a realistic time line for the project management (chart or graph) showing key activities, milestones, and responsible staff. [Note: The time line should be part of the Project Narrative. It should not be placed in an appendix.]

• Discuss the capability and experience of the applicant organization and other partnering organizations with similar projects, including experience in implementing culturally appropriate/competent prevention interventions.

• Provide a list of staff or position descriptions that will participate in the project, showing the role of each and their level of effort and qualifications. Include the Project Director, Epidemiological Workgroup Lead, Project Evaluator, and other key personnel.

• Describe the resources available for the proposed project (e.g., facilities, equipment). Provide evidence that any direct services will be provided in a location that is adequate, accessible, compliant with the Americans with Disabilities Act (ADA), and amenable to the target population.

Section D: Evaluation and Data (30 points)

• Describe the process and outcome evaluation, addressing the evaluation requirements specified in Section I-2.6, Evaluation, of this grant announcement. Include specific performance measures and target outcomes related to the goals and objectives identified for the SPF SIG project in Section B of the Project Narrative. Discuss how they will be used to track progress in achieving these goals and objectives over the course of the SPF SIG project.

• Document your ability to collect and report on the required performance measures as specified in Section I-2.5, Data and Performance Measurement, and Appendix D of this grant announcement. Specify and justify any additional measures you plan to use for your grant project.

• Describe plans for data collection, management, analysis, interpretation and reporting.

—Describe the existing data collection system, its ability to capture required performance measures, and any necessary modifications.

—Describe planned approaches to surveying program participants or gathering archival data on an ongoing basis to map the program results to needs assessment and other data.

—Document your ability to access target populations for the purposes of gathering data.

—Include project-specific data collection instruments/interview protocols (i.e., those not required by CSAP) in Appendix 2.

• Discuss the reliability and validity of evaluation methods and instruments in terms of the gender/age/culture of the target population.

• Describe your plan for tracking the data generated by your project over time, and utilizing these data in your ongoing project planning and development.

• Describe your approach to ensuring that adequate evaluation and data collection capacity at the community level of your SPF SIG project will be in place.

• State your commitment to participate in and meet the requirements of the SPF SIG Cross-Site Evaluation, which will be conducted by CSAP.

Note: Although the budget for the proposed project is not a review criterion, the Review Group will be asked to comment on the appropriateness of the budget after the merits of the application have been considered.

2. Review and Selection Process

SAMHSA applications are peer-reviewed according to the review criteria listed above. For those programs where the individual award is over $100,000, applications must also be reviewed by the appropriate National Advisory Council.

Decisions to fund a grant are based on:

• The strengths and weaknesses of the application as identified by peer reviewers and, when appropriate, approved by the appropriate National Advisory Council;

• Availability of funds;

• Equitable distribution of awards in terms of geography (including urban, rural and remote settings) and balance among target populations and program size; and

• After applying the aforementioned criteria, the following method for breaking ties: When funds are not available to fund all applications with identical scores, SAMHSA will make award decisions based on the application(s) that received the greatest number of points by peer reviewers on the evaluation criterion in Section V-1 with the highest number of possible points (Proposed Approach—35 points). Should a tie still exist, the evaluation criterion with the next highest possible point value will be used, continuing sequentially to the evaluation criterion with the lowest possible point value, should that be necessary to break all ties.

VI. Award Administration Information

1. Award Notices

After your application has been reviewed, you will receive a letter from SAMHSA through postal mail that describes the general results of the review, including the score that your application received.

If you are approved for funding, you will receive an additional notice, the Notice of Grant Award, signed by SAMHSA's Grants Management Officer. The Notice of Grant Award is the sole obligating document that allows the grantee to receive Federal funding for work on the grant project. It is sent by postal mail and is addressed to the contact person listed on the face page of the application.

If you are not funded, you can re-apply if there is another receipt date for the program.

2. Administrative and National Policy Requirements

2.1 General Requirements

• You must comply with all terms and conditions of the grant award. SAMHSA's standard terms and conditions are available on the SAMHSA Web site at http://www.samhsa.gov/grants/2004/useful_info.asp.

• Depending on the nature of the specific funding opportunity and/or the proposed project as identified during review, additional terms and conditions may be identified in the NOFA or negotiated with the grantee prior to grant award. These may include, for example:

—actions required to be in compliance with human subjects requirements;

—requirements relating to additional data collection and reporting;

—requirements relating to participation in a cross-site evaluation; or

—requirements to address problems identified in review of the application.

• You will be held accountable for the information provided in the application relating to performance targets. SAMHSA program officials will consider your progress in meeting goals and objectives, as well as your failures and strategies for overcoming them, when making an annual recommendation to continue the grant and the amount of any continuation award. Failure to meet stated goals and objectives may result in suspension or termination of the grant award, or in reduction or withholding of continuation awards.

• In an effort to improve access to funding opportunities for applicants, SAMHSA is participating in the U.S. Department of Health and Human Services “Survey on Ensuring Equal Opportunity for Applicants.” This survey is included in the application kit for SAMHSA grants. Applicants are encouraged to complete the survey and return it, using the instructions provided on the survey form.

3. Reporting Requirements

3.1 Progress and Financial Reports

• Grantees must provide quarterly and final progress reports. The final progress report must summarize information from the quarterly reports, describe the accomplishments of the project, and describe next steps for implementing plans developed during the grant period.

• Grantees must provide quarterly and final financial status reports. These reports may be included as separate sections of quarterly and final progress reports or can be separate documents. Because SAMHSA is extremely interested in ensuring that infrastructure development and enhancement efforts can be sustained, your financial reports must explain plans to ensure the sustainability (see Glossary—Appendix B) of efforts initiated under this grant. Initial plans for sustainability should be described in year 1 of the grant. In each subsequent year, you should describe the status of the project, successes achieved and obstacles encountered in that year.

• SAMHSA will provide guidelines and requirements for these reports to grantees at the time of award and at the initial grantee orientation meeting after award. SAMHSA staff will use the information contained in the reports to determine the grantee's progress toward meeting its goals.

3.2 Government Performance and Results Act

The Government Performance and Results Act (GPRA) mandates accountability and performance-based management by Federal agencies. To meet the GPRA requirements, SAMHSA must collect performance data (i.e., “GPRA data”) from grantees. The performance requirements for SAMHSA's SPF SIGs are described in Section I-2.5 under “Data and Performance Measurement” of this document.

3.3 Publications

If you are funded under this grant program, you are required to notify the Government Project Officer (GPO) and SAMHSA's Publications Clearance Officer (301-443-8596) of any materials based on the SAMHSA-funded project that are accepted for publication.

In addition, SAMHSA requests that grantees:

• Provide the GPO and SAMHSA Publications Clearance Officer with advance copies of publications.

• Include acknowledgment of the SAMHSA grant program as the source of funding for the project.

• Include a disclaimer stating that the views and opinions contained in the publication do not necessarily reflect those of SAMHSA or the U.S. Department of Health and Human Services, and should not be construed as such.

SAMHSA reserves the right to issue a press release about any publication deemed by SAMHSA to contain information of program or policy significance to the substance abuse treatment/substance abuse prevention/mental health services community.

VII. Agency Contacts

For questions on program issues, contact: Mr. Mike Lowther, Director, Division of State and Community Systems Development, Center for Substance Abuse Prevention, 5600 Fishers Lane, Rockwall II, Suite 930, Rockville, MD 20857, 301-443-0369, mlowther@samhsa.gov; or

Mr. Dave Robbins, Deputy Director, Division of State and Community Systems Development, Center for Substance Abuse Prevention, Rockwall II, Suite 930, Rockville, MD 20857, 301-443-0369, drobbins@samhsa.gov.

For questions on grants management issues, contact:

Ms. Edna Frazier, Office of Program Services, Division of Grants Management, Substance Abuse and Mental Health Services Administration, 5600 Fishers Lane, Rockwall II, Suite 630, Rockville, MD 20857, (301) 443-6816, efrazier@samhsa.gov.

Appendix A—Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review. In addition to these formatting requirements, programmatic requirements (e.g., relating to eligibility) may be stated in the specific funding announcement. Please check the entire funding announcement before preparing your application.

• Use the PHS 5161-1 application.

• Applications must be received by the application deadline. Applications received after this date must have a proof of mailing date from the carrier dated at least 1 week prior to the due date. Private metered postmarks are not acceptable as proof of timely mailing. Applications not received by the application deadline or not postmarked at least 1 week prior to the application deadline will not be reviewed.

• Information provided must be sufficient for review.

• Text must be legible.

—Type size in the Project Narrative cannot exceed an average of 15 characters per inch, as measured on the physical page. (Type size in charts, tables, graphs, and footnotes will not be considered in determining compliance.)

—Text in the Project Narrative cannot exceed 6 lines per vertical inch.

• Paper must be white paper and 8.5 inches by 11.0 inches in size.

• To ensure equity among applications, the amount of space allowed for the Project Narrative cannot be exceeded.

—Applications would meet this requirement by using all margins (left, right, top, bottom) of at least one inch each, and adhering to the page limit for the Project Narrative stated in the specific funding announcement.

—Should an application not conform to these margin or page limits, SAMHSA will use the following method to determine compliance: The total area of the Project Narrative (excluding margins, but including charts, tables, graphs and footnotes) cannot exceed 58.5 square inches multiplied by the total number of allowed pages. This number represents the full page less margins, multiplied by the total number of allowed pages.

—Space will be measured on the physical page. Space left blank within the Project Narrative (excluding margins) is considered part of the Project Narrative, in determining compliance.

• The page limit for Appendices stated in the specific funding announcement cannot be exceeded.

To facilitate review of your application, follow these additional guidelines. Failure to adhere to the following guidelines will not, in itself, result in your application being screened out and returned without review. However, following these guidelines will help ensure your application is complete, and will help reviewers to consider your application.

• The 10 application components required for SAMHSA applications should be included. These are:

—Face Page (Standard Form 424, which is in PHS 5161-1)

—Abstract

—Table of Contents

—Budget Form (Standard Form 424A, which is in PHS 5161-1)

—Project Narrative and Supporting Documentation

—Appendices

—Assurances (Standard Form 424B, which is in PHS 5161-1)

—Certifications (a form in PHS 5161-1)

—Disclosure of Lobbying Activities (Standard Form LLL, which is in PHS 5161-1)

—Checklist (a form in PHS 5161-1)

• Applications should comply with the following requirements:

—Provisions relating to confidentiality, participant protection and the protection of human subjects specified in Section IV-2.4 of the specific funding announcement.

—Budgetary limitations as specified in Sections I, II, and IV-5 of the specific funding announcement.

—Documentation of nonprofit status as required in the PHS 5161-1.

• Pages should be typed single-spaced with one column per page.

• Pages should not have printing on both sides.

• Please use black ink, and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in the funding announcement. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

Appendix B—Glossary

Best Practice: Best practices are practices that incorporate the best objective information currently available from recognized experts regarding effectiveness and acceptability.

Catchment Area: A catchment area is the geographic area from which the target population to be served by a program will be drawn.

Cooperative Agreement: A cooperative agreement is a form of Federal grant. Cooperative agreements are distinguished from other grants in that, under a cooperative agreement, substantial involvement is anticipated between the awarding office and the recipient during performance of the funded activity. This involvement may include collaboration, participation, or intervention in the activity. HHS awarding offices use grants or cooperative agreements (rather than contracts) when the principal purpose of the transaction is the transfer of money, property, services, or anything of value to accomplish a public purpose of support or stimulation authorized by Federal statute. The primary beneficiary under a grant or cooperative agreement is the public, as opposed to the Federal Government.

Cost Sharing or Matching: Cost-sharing refers to the value of allowable non-Federal contributions toward the allowable costs of a Federal grant project or program. Such contributions may be cash or in-kind contributions. For SAMHSA grants, cost-sharing or matching is not required, and applications will not be screened out on the basis of cost-sharing. However, applicants often include cash or in-kind contributions in their proposals as evidence of commitment to the proposed project. This is allowed, and this information may be considered by reviewers in evaluating the quality of the application.

Fidelity: Fidelity is the degree to which a specific implementation of a program or practice resembles, adheres to, or is faithful to the evidence-based model on which it is based. Fidelity is formally assessed using rating scales of the major elements of the evidence-based model. A toolkit on how to develop and use fidelity instruments is available from the SAMHSA-funded Evaluation Technical Assistance Center at http://tecathsri.org or by calling (617) 876-0426.

Grant: A grant is the funding mechanism used by the Federal Government when the principal purpose of the transaction is the transfer of money, property, services, or anything of value to accomplish a public purpose of support or stimulation authorized by Federal statute. The primary beneficiary under a grant or cooperative agreement is the public, as opposed to the Federal Government.

In-Kind Contribution: In-kind contributions toward a grant project are non-cash contributions (e.g., facilities, space, services) that are derived from non-Federal sources, such as State or sub-State non-Federal revenues, foundation grants, or contributions from other non-Federal public or private entities.

Logic Model: A logic model is a diagrammatic representation of a theoretical framework. A logic model describes the logical linkages among program resources, conditions, strategies, short-term outcomes, and long-term impact. More information on how to develop logic models and examples can be found through the resources listed in Appendix C.

Practice: A practice is any activity, or collective set of activities, intended to improve outcomes for people with or at risk for substance abuse and/or mental illness. Such activities may include direct service provision, or they may be supportive activities, such as efforts to improve access to and retention in services, organizational efficiency or effectiveness, community readiness, collaboration among stakeholder groups, education, awareness, training, or any other activity that is designed to improve outcomes for people with or at risk for substance abuse or mental illness.

Practice Support System: This term refers to contextual factors that affect practice delivery and effectiveness in the pre-adoption phase, delivery phase, and post-delivery phase, such as (a) community collaboration and consensus building, (b) training and overall readiness of those implementing the practice, and (c) sufficient ongoing supervision for those implementing the practice.

Stakeholder: A stakeholder is an individual, organization, constituent group, or other entity that has an interest in and will be affected by a proposed grant project.

Sustainability: Sustainability is the ability to continue a program or practice after SAMHSA grant funding has ended.

Target Population: The target population is the specific population of people whom a particular program or practice is designed to serve or reach.

Wraparound Service: Wraparound services are non-clinical supportive services—such as child care, vocational, educational, and transportation services—that are designed to improve the individual's access to and retention in the proposed project.

Appendix C—National Registry of Effective Programs

To help SAMHSA's constituents learn more about science-based programs, SAMHSA's Center for Substance Abuse Prevention (CSAP) created a National Registry of Effective Programs (NREP) to review and identify effective programs. NREP seeks candidates from the practice community and the scientific literature. While the initial focus of NREP was substance abuse prevention programming, NREP has expanded its scope and now includes prevention and treatment of substance abuse and of co-occurring substance abuse and mental disorders, and psychopharmacological programs and workplace programs.

NREP includes three categories of programs: Effective Programs, Promising Programs, and Model Programs. Programs defined as Effective have the option of becoming Model Programs if their developers choose to take part in SAMHSA dissemination efforts. The conditions for making that choice, together with definitions of the three major criteria, are as follows.

Promising Programs have been implemented and evaluated sufficiently and are scientifically defensible. They have positive outcomes in preventing substance abuse and related behaviors. However, they have not yet been shown to have sufficient rigor and/or consistently positive outcomes required for Effective Program status. Nonetheless, Promising Programs are eligible to be elevated to Effective/Model status after review of additional documentation regarding program effectiveness. Originated from a range of settings and spanning target populations, Promising Programs can guide prevention, treatment, and rehabilitation.

Effective Programs are well-implemented, well-evaluated programs that produce consistently positive pattern of results (across domains and/or replications). Developers of Effective Programs have yet to help SAMHSA/CSAP disseminate their programs, but may do so themselves.

Model Programs are also well-implemented, well-evaluated programs, meaning they have been reviewed by NREP according to rigorous standards of research. Their developers have agreed with SAMHSA to provide materials, training, and technical assistance for nationwide implementation. That helps ensure the program is carefully implemented and likely to succeed.

Programs that have met the NREP standards for each category can be identified by accessing the NREP Model Programs Web site at http://www.modelprograms.samhsa.gov.

Appendix D—Performance Measures for the SPF SIG

This section further specifies the data to be collected and reported as described in Section I-2.5, Data and Performance Measurement.

National Outcomes and National Outcome Measures

This list represents the specific questions to be used to determine progress toward the National Outcome Measures listed in Section I-2.5. Grantees and subgrantees may be required to supply additional data to comply with any evaluations of the SPF SIG program and/or as required by SAMHSA. For the past 10 years, SAMHSA and the States have endeavored to bring accountability for performance to SAMHSA's Block Grants. SAMHSA and the States have identified seven key domains of resilience and recovery, including: abstinence from alcohol abuse or drug use, or decreased mental illness symptomatology; increased or retained employment and school enrollment; decreased involvement with the criminal justice system; increased stability in family and living conditions; increased access to services; increased retention in services (substance abuse) or decreased utilization of psychiatric inpatient beds (mental health); and increased social supports/social connectedness. These seven domains, as well as three outcomes identified by the OMB Program Assessment Rating Tool (PART) process—client perception of care, cost effectiveness, and use of evidence-based practices—constitute the ten National Outcomes.

Specifically, with regard to substance abuse prevention, SAMHSA's Center for Substance Abuse Prevention (CSAP) and a group of State prevention officials have met regularly to identify and define the performance measures now being tested by the States as part of CSAP's original State Incentive Grant program, many of which are taken from existing data sources, such as CSAP's Minimum Data Set or its Core Measures Initiative. The measures listed in Section I-2.5 and the data elements for each measure provided below are the National Outcome Measures for substance abuse prevention.

Developmental Measures

As indicated, some of the specific National Outcome Measures for substance abuse prevention are “developmental,” requiring further work by SAMHSA and the States to delineate the best measures to assess progress toward reporting National Outcomes. Specifically, these developmental measures include measures for the National Outcomes of returning to/staying in school (school attendance, ATOD-related suspensions/expulsions, drug-related workplace injuries), decreased criminal justice involvement (drug-related crime), increased stability in family and living conditions (parent participation in prevention activities), and cost effectiveness (increase services provided within cost bands).

For these developmental measures, SAMHSA is asking grantees to develop their own data sources and data elements and be prepared to discuss their initial experience with the sources and elements at a grantee meeting three months after the grant period begins. Given that it is SAMHSA's intent to have the same National Outcome measures for both this program and the substance abuse prevention activities funded by the SAPT Block Grant, SAMHSA will also ask State officials working on the prevention portion of the SAPT Block Grant to participate in that meeting. At the meeting, participants will identify and agree to data elements and data collection approaches for the developmental measures. By having the same National Outcome Measures, data sources, and data elements for both the SPF SIG and the prevention portion of the SAPT Block Grant, SAMHSA hopes to minimize the reporting burden on the States and enable SAMHSA and the States to effectively monitor participant and program outcomes and help direct systems improvements.

Grantees and State Block Grant officials will also work with SAMHSA to identify a measure, data source and data elements for the National Outcome of Increased Social Supports/Social Connectedness.

SAMHSA anticipates that its work with State officials to finalize these developmental measures will be part of its collaboration with the States to continually assess and improve the National Outcome Measures.

In its application, the State should demonstrate how it intends to ensure that outcome and financial data is reported in a timely manner. States should describe how they intend to ensure that outcome data are reported on the following National Outcomes:

1. Abstinence From Drug Use/Alcohol Abuse

1.1 30-Day Substance Use (Non-use/reduction in use)

(Data Source: CSAP Core Measures*)

Data Elements

Tobacco

(1) How frequently have you smoked cigarettes during the past 30 days?

1. Not at all

2. Less than one cigarette per day

3. One to five cigarettes per day

4. About one-half pack per day

5. About one pack per day

6. About one and one-half packs per day

7. Two packs or more per day

(2) How often have you taken smokeless tobacco during the past 30 days?

1. Not at all

2. Once or twice

3. Once or twice per week

4. Three to five times per week

5. About once a day

6. More than once a day

(3) To be more precise, during the past 30 days about how many cigarettes have you smoked per day?

1. None

2. Less than 1 per day

3. 1 to 2

4. 3 to 7

5. 8 to 12

6. 13 to 17

7. 18 to 22

8. 23 to 27

Alcoholic beverages include beer, wine, wine coolers, and liquor.

(4) On how many occasions during the last 30 days have you had alcoholic beverages to drink (more than just a few sips)?

1. 0 occasions

2. 1-2 occasions

3. 3-5 occasions

4. 6-9 occasions

5. 10-19 occasions

6. 20-39 occasions

7. 40 or more occasions

(5) On how many occasions during the past 30 days (if any) have you been drunk or very high from drinking alcoholic beverages?

1. 0 occasions

2. 1-2 occasions

3. 3-5 occasions

4. 6-9 occasions

5. 10-19 occasions

6. 20-39 occasions

7. 40 or more occasions

Marijuana, hashish, inhalants, LSD

(6) On how many occasions during the past 30 days (if any) have you used marijuana (grass, pot) or hashish (hash, hash oil)?

1. 0 occasions

2. 1-2 occasions

3. 3-5 occasions

4. 6-9 occasions

5. 10-19 occasions

6. 20-39 occasions

7. 40 or more occasions

(7) During the LAST MONTH, about how many marijuana cigarettes (joints, reefers), or the equivalent, did you smoke a day, on the average? (If you shared them with other people, count only the amount YOU smoked).

1. None

2. Less than 1 a day

3. 1 a day

4. 2-3 a day

5. 4-6 a day

6. 7-10 a day

7. 11 or more a day

(8) On how many occasions during the last 30 days (if any) have you sniffed glue, or breathed the contents of aerosol spray cans, or inhaled any other gases or sprays in order to get high?

1. 0

2. 1-2 occasions

3. 3-5 occasions

4. 6-9 occasions

5. 10-19 occasions

6. 20-39 occasions

7. 40 or more occasions

(9) On how many occasions (if any) in the last 30 days have you taken LSD (“acid”)?

1. 0

2. 1-2 occasions

3. 3-5 occasions

4. 6-9 occasions

5. 10-19 occasions

6. 20-39 occasions

7. 40 or more occasions

Amphetamines are sometimes called: uppers, ups, speed, bennies, dexies, pep pills, diet pills, meth or crystal meth. They include the following drugs: Benzedrine, Dexedrine, Methedrine, Ritalin, Preludin, Dexamyl, and Methamphetamine.

(10) On how many occasions (if any) during the last 30 days have you taken amphetamines on your own—that is, without a doctor telling you to take them?

1. 0

2. 1-2 occasions

3. 3-5 occasions

4. 6-9 occasions

5. 10-19 occasions

6. 20-39 occasions

7. 40 or more occasions

Cocaine, Crack Cocaine

(11) On how many occasions (if any) during the last 30 days have you taken “crack” (cocaine in chunk or rock form)?

1. 0

2. 1-2 occasions

3. 3-5 occasions

4. 6-9 occasions

5. 10-19 occasions

6. 20-39 occasions

7. 40 or more occasions

(12) On how many occasions (if any) during the last 30 days have you taken cocaine in any other form (like cocaine powder)?

1. 0

2. 1-2 occasions

3. 3-5 occasions

4. 6-9 occasions

5. 10-19 occasions

6. 20-39 occasions

7. 40 or more occasions

1.2 Availability of alcohol, tobacco and other drugs

Data Source: CSAP Core Measures* p. 206 (subset of full scale)

Data Elements

(1) If you wanted to get some beer, wine, or hard liquor (for example, vodka, whiskey or gin), how easy would it be for you to get some?

Very hard

Sort of hard

Sort of easy

Very easy

(2) If you wanted to get some cigarettes, how easy would it be for you to get some?

Very hard

Sort of hard

Sort of easy

Very easy

(3) If you wanted to get some marijuana, how easy would it be for you to get some?

Very hard

Sort of hard

Sort of easy

Very easy

(4) If you wanted to get a drug like cocaine, LSD, or amphetamines, how easy would it be for you to get some?

Very hard

Sort of hard

Sort of easy

Very easy

1.3 Perception of Drug Use as Harmful

Data Source: CSAP Core Measures* p. 76 (subset of full scale)

Data Elements

(1) How much do you think people risk harming themselves (physically or in other ways) if they smoke one or more packs of cigarettes per day?

No risk

Slight risk

Moderate risk

Great risk

Can't say/Drug unfamiliar

(2) How much do you think people risk harming themselves (physically or in other ways) if they try marijuana once or twice?

No risk

Slight risk

Moderate risk

Great risk

Can't say/Drug unfamiliar

(3) How much do you think people risk harming themselves (physically or in other ways) if they smoke marijuana regularly?

No risk

Slight risk

Moderate risk

Great risk

Can't say/Drug unfamiliar

(4) How much do you think people risk harming themselves (physically or in other ways) if they take one or two drinks nearly every day?

No risk

Slight risk

Moderate risk

Great risk

Can't say/Drug unfamiliar

(5) How much do you think people risk harming themselves (physically or in other ways) if they have five or more drinks once or twice each weekend?

No risk

Slight risk

Moderate risk

Great risk

Can't say/Drug unfamiliar

1.4 Attitude Toward Use (Perception of Drug Use as Wrong)

Data Source: CSAP Core Measures* p. 71

Data Elements

(1) How wrong do you think it is for someone your age to drink beer, wine or hard liquor (for example, vodka, whiskey or gin) regularly?

Very wrong

Wrong

A little bit wrong

Not at all wrong

(2) How wrong do you think it is for someone your age to smoke cigarettes?

Very wrong

Wrong

A little bit wrong

Not at all wrong

(3) How wrong do you think it is for someone your age to smoke marijuana?

Very wrong

Wrong

A little bit wrong

Not at all wrong

(4) How wrong do you think it is for someone your age to use LSD, cocaine, amphetamines or another illegal drug?

Very wrong

Wrong

A little bit wrong

Not at all wrong

2. Increased/Retained Employment or Return to/Stay In School

2.1 School Attendance—DEVELOPMENTAL

Data Source: Social indicator data.

2.2 ATOD-Related Suspensions/Expulsions—DEVELOPMENTAL

Data Source: Social indicator data.

2.3 Drug-Related Workplace Injuries—DEVELOPMENTAL

Data Source: Social indicator and/or workplace-specific data.

3. Decreased Criminal Justice Involvement

3.1 Drug-Related Crime—DEVELOPMENTAL

Data Source: Social indicator data.

4. Increased Stability in Family and Living Conditions

4.1 Parent Participation in Prevention Activities—DEVELOPMENTAL

Data Source: Program-specific data.

5. Increased Access to Services (Service Capacity)

5.1 Number of Persons Served by Age, Gender, Race and Ethnicity

Data Source: CSAP Minimum Data Set, http://prevtech.samhsa.gov or compatible management information system)

Data Elements

(1) Attendees/Participants by Age

Age 0-4

Age 5-11

Age 12-14

Age 15-17

Age 18-20

Age 21-24

Age 25-44

Age 45-64

Age 65+

(2) Attendees/Participants by Gender

New Participants, Male

New Participants, Female

(3) Attendees/Participants by Racial/Ethnic Category

Are you Hispanic or Latino?

Yes

No

What is your race? (Select one or more)

Black or African American

Asian

American Indian

Alaska Native

White

Native Hawaiian or Other Pacific Islander

6. Increased Social Supports/Social Connectedness—Measure To Be Identified

7. Cost Effectiveness

7.1 Increase Services Provided Within Cost Bands—DEVELOPMENTAL

Data Source: To be determined

8. Use of Evidence-Based Practices

8.1 Total Number of Evidence-based Programs and Strategies Funded by SPF SIG

Data Source: SIG Subrecipient Checklist

Data Elements:

8.1.1 Is this intervention science-based? (Check yes or no.)

1. Yes.

2. No.

Science-Based Interventions (Part II, Questions 10-13) have been reviewed by experts in the field according to predetermined standards of empirical research. Science-based programs are theory based, have sound research methodology, and can support that effects are clearly linked to the program itself and not to extraneous events. Results from science-based programs may be positive, neutral, or negative.

* The CSAP Core Measures Notebook is available at http://www.samhsa.gov/grants/2004/downloads/CSAP_Core_Measures.doc (Word version) or http://www.samhsa.gov/grants/2004/downloads/CSAP_Core_Measures.pdf (PDF version).

OMB clearance is required for all data collection activities. All data is to be shared with SAMHSA/CSAP per the Terms and Conditions of the award.

Dated: April 23, 2004.
Daryl Kade,
Director, Office of Policy, Planning and Budget, Substance Abuse and Mental Health Services Administration.

[FR Doc. 04-9656 Filed 4-28-04; 8:45 am]

BILLING CODE 4162-20-P